ENVIRONMENTAL PROTECTION AGENCY

40 CFR Part 49

[EPA-R08-OAR-2024-0194; FRL-11993-01-R8]

Announcement of the Delegation of Partial Administrative Authority for the Southern Ute Indian Reservation to the Southern Ute Indian Tribe for Implementation of the Clean Air Act Federal Minor New Source Review Program in Indian Country and the Indian Country Minor Source Oil and Gas Federal Implementation Plan

AGENCY: Environmental Protection Agency (EPA).

ACTION: Final rule; notice of delegation of authority; technical amendment.

SUMMARY: The Environmental Protection Agency (EPA) is taking action to announce that on June 11, 2024, EPA Region 8 and the Southern Ute Indian Tribe (SUIT) entered into an Agreement for Delegation of Partial Administrative Authority to assist the EPA in administering the following two federal Clean Air Act (CAA) programs within the SUIT Reservation: the Federal Minor New Source Review Program in Indian country (EPA Indian country MNSR Program) and the Federal Implementation Plan for Managing Air Emissions from True Minor Sources in Indian Country in the Oil and Natural Gas Production and Oil and Natural Gas Processing Segments of the Oil and Natural Gas Sector (EPA Indian country Minor Source Oil and Gas FIP). Notice of this partial delegation is being added to the Code of Federal Regulations (CFR). The EPA is taking this action pursuant to the CAA.

DATES: The delegation was effective on June 11, 2024. The amendments to the CFR made by this rulemaking are effective on September 9, 2024.

ADDRESSES: The EPA has established a docket for this action under Docket ID No. EPA-R08-OAR-2024-0194. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Kyle Olson, Air and Radiation Division, EPA, Region 8, Mailcode 8ARD-IO, 1595 Wynkoop Street, Denver, Colorado 80202-1129, telephone number: (303) 312-6002, email address: olson.kyle@epa.gov. Additional information may also be obtained from the SUIT by contacting Danny Powers, Southern Ute Indian Tribe Air Quality Division Head, P.O. Box 737 MS#84, Ignacio, Colorado 81137.

SUPPLEMENTARY INFORMATION: Throughout this document “we,” “us,” and “our” means the EPA.

The purpose of this action is to announce, pursuant to 40 CFR 49.161 and 40 CFR 49.103, that on June 11, 2024, EPA Region 8 delegated partial administrative authority to the SUIT, limited to the area of the SUIT Reservation, to assist the EPA in administering the following two federal CAA programs: (1) the EPA Indian country MNSR Program, and (2) the EPA Indian country Minor Source Oil and Gas FIP.

I. Authority To Delegate

Pursuant to 40 CFR 49.161, the EPA may partially delegate to a Tribe the authority to assist the EPA in administering the EPA Indian country MNSR Program. Pursuant to 40 CFR 49.103, the EPA may delegate to a Tribe the authority to assist the EPA in administering the EPA Indian country Minor Source Oil and Gas FIP. To obtain delegation, a Tribe must submit a request to the relevant EPA Regional Administrator that meets the requirements of 40 CFR 49.161(b)(1)(i) through (iv) and 40 CFR 49.103(b)(1) through (3). EPA Region 8 determined that the SUIT's request for delegation satisfied those requirements.

II. Partial Delegation of Administrative Authority

On June 11th, 2024, EPA entered into an “Agreement for Delegation of Partial Administrative Authority of Certain Federal Clean Air Act Indian Country Programs to the Southern Ute Indian Tribe by the United States Environmental Protection Agency.” The Delegation Agreement provides authority for the SUIT to assist EPA in administering the following rules that are part of the EPA Indian country MNSR Program and the EPA Indian country Minor Source Oil and Gas FIP, with the exception of enforcement of those rules. For the EPA Indian country MNSR Program: 40 CFR 49.151 (Program Overview, including serving as the reviewing authority, receiving, processing, and issuing or denying permits); 40 CFR 49.154 (Permit application requirements); 40 CFR 49.155 (Permit requirements); 40 CFR 49.156 (General permits and permits by rule); 40 CFR 49.157 (Public participation requirements); 49.158 (Synthetic minor source permits); 40 CFR 49.159 (Final permit issuance and administrative and judicial review); 49.160 (Registration program for minor sources in Indian country); 40 CFR 49.162 (Air quality permit by rule for new or modified true minor source auto body repair and miscellaneous surface coating operations in Indian country); 40 CFR 49.163 (Air quality permit by rule for new or modified true minor source petroleum dry cleaning facilities in Indian country); and 40 CFR 49.164 (Air quality permit by rule for new or modified true minor source gasoline dispensing facilities in Indian country). For the EPA Indian country Minor Source Oil and Gas FIP: 40 CFR 49.104 (Requirements regarding threatened or endangered species and historic properties) and 40 CFR 49.105 (Requirements, including conducting inspections for compliance with the requirements of this provision).

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because EPA is merely informing the public of partial delegation of administrative authority to the SUIT and making a technical amendment to the CFR by adding a note announcing the partial delegation, as directed by 40 CFR 49.161 and 40 CFR 49.103. Thus, notice and public procedure are unnecessary. EPA finds that this constitutes good cause under 5 U.S.C. 553(b)(B).

Moreover, since this action does not create any new regulatory requirements, EPA finds that good cause exists to provide for an immediate effective date pursuant to 5 U.S.C. 553(d)(3).

III. How can I get copies of this document and other related information?

Docket: EPA has established a docket for this action under Docket ID No. EPA-R08-OAR-2024-0194. Publicly available docket materials are available either electronically through https://www.regulations.gov or in hard copy at the EPA Docket Center, WJC West Building, Room 3334, 1301 Constitution Ave. NW, Washington, DC. The docket Center's hours of operations are 8:30 a.m.-4:30 p.m., Monday-Friday (except Federal Holidays). For further information on the EPA Docket Center services and the current status, see https://www.epa.gov/dockets.

Electronic access: You may access this Federal Register document electronically from https://www.federalregister.gov/documents/current. The delegation agreement and other docket materials are available electronically in EDOCKET, EPA's electronic public docket and comment system, found at https://www.regulations.gov.

IV. Statutory and Executive Order Reviews

Additional information about these statutes and Executive Orders can be found at https://www.epa.gov/laws-regulations/laws-and-executive-orders.

A. Executive Order 12866: Regulatory Planning and Review and Executive Order 14094: Modernizing Regulatory Review

This action is not a significant regulatory action as defined in Executive Order 12866, as amended by Executive Order 14094, and was therefore not subject to a requirement for Executive Order 12866 review.

B. Paperwork Reduction Act (PRA)

This action does not impose an information collection burden under the PRA. The PRA applies to federally-mandated collection of information directed to 10 or more people, but the information collection required under the delegation agreement applies only to the SUIT.

C. Regulatory Flexibility Act (RFA)

I certify that this action will not have a significant economic impact on a substantial number of small entities under the RFA. This action will not impose any requirements on small entities. This action merely makes a technical amendment to the CFR and gives notice of a partial delegation of administrative authority. This action does not alter regulatory requirements that apply to small entities.

D. Unfunded Mandates Reform Act (UMRA)

This action does not contain any unfunded mandate as described in UMRA, 2 U.S.C. 1531-1538, and does not significantly or uniquely affect small governments. The costs involved in this action are imposed only by participation in a voluntary federal program. UMRA generally excludes from the definition of “federal intergovernmental mandate” duties that arise from participation in a voluntary federal program.

E. Executive Order 13132: Federalism

This action does not have federalism implications. It will not have substantial direct effects on the States, on the relationship between the national government and the States, or on the distribution of power and responsibilities among the various levels of government.

F. Executive Order 13175: Consultation and Coordination With Indian Tribal Governments

This action has tribal implications. However, it will neither impose substantial direct compliance costs on federally recognized tribal governments, nor preempt tribal law. The SUIT voluntarily requested the partial delegation addressed in this action, and this action fulfills a requirement to publish a document announcing the partial delegation of authority to the SUIT to implement certain federal CAA programs and to identify the partial delegation in the CFR.

G. Executive Order 13045: Protection of Children From Environmental Health Risks and Safety Risks

EPA interprets Executive Order 13045 as applying only to those regulatory actions that concern environmental health or safety risks that EPA has reason to believe may disproportionately affect children, per the definition of “covered regulatory action” in section 2-202 of the Executive Order.

Therefore, this action is not subject to Executive Order 13045 because it fulfills a requirement to publish a notice announcing the partial delegation of authority to the SUIT to implement certain federal CAA programs and to identify the partial delegation in the CFR. This action does not alter or create new health or safety-based federal standards.

H. Executive Order 13211: Actions Concerning Regulations That Significantly Affect Energy Supply, Distribution or Use

This action is not subject to Executive Order 13211, because it is not a significant regulatory action under Executive Order 12866.

I. National Technology Transfer and Advancement Act (NTTAA)

This rulemaking does not involve technical standards, in that it does not alter or create any new technical standards.

J. Executive Order 12898: Federal Actions To Address Environmental Justice in Minority Populations and Low-Income Populations and Executive Order 14096: Revitalizing Our Nation's Commitment to Environmental Justice for All

The EPA believes that the human health or environmental conditions that exist prior to this action result in or have the potential to result in disproportionate and adverse human health or environmental effects on communities with environmental justice concerns. The minor sources on the SUIT Reservation subject to the two CAA programs partially delegated to the SUIT were not previously under a regular compliance monitoring schedule under the CAA, potentially resulting in instances of noncompliance from uncontrolled emissions. Any uncontrolled emissions could have the potential to result in disproportionate and adverse human health or environmental effects on communities with environmental justice concerns in the SUIT Reservation.

The EPA believes that this action is likely to reduce existing disproportionate and adverse effects on communities with environmental justice concerns. This delegation levels the playing field, by ensuring that minor sources on the SUIT Reservation are inspected for compliance with CAA regulations similarly to those sources off the SUIT Reservation. This should reduce any noncompliance and unpermitted air pollution emissions that may exist on the SUIT Reservation, and therefore reduce any disproportionate and adverse effects associated with those emissions that could affect communities with environmental justice concerns in the SUIT Reservation.

The EPA identified and addressed environmental justice concerns by responding to the Tribe's identification of a potential gap in regulatory oversight of minor source air emissions, and the Tribe's willingness to assist the EPA in administering the two CAA minor source programs.

K. Congressional Review Act (CRA)

This action is subject to the CRA, and the EPA will submit a rule report to each House of the Congress and to the Comptroller General of the United States. The CRA allows the issuing agency to make a rule effective sooner than otherwise provided by the CRA if the agency makes a good cause finding that notice and comment rulemaking procedures are impracticable, unnecessary or contrary to the public interest (5 U.S.C. 808(2)). The EPA has made a good cause finding for this rule as discussed in section II. of this preamble, including the basis for that finding.

V. Judicial Review

Under section 307(b)(1) of the CAA, petitions for judicial review of this action must be filed in the United States Court of Appeals for the appropriate circuit by October 8, 2024. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 49

Environmental protection, Administrative practice and procedure, Air pollution control, Indians, Intergovernmental relations, Reporting and recordkeeping requirements.

Dated: August 4, 2024.
KC Becker,
Regional Administrator, Region 8.

For the reasons set forth in the preamble, EPA is amending 40 CFR part 49 as follows:

PART 49—INDIAN COUNTRY: AIR QUALITY PLANNING AND MANAGEMENT

1. The authority citation for part 49 continues to read as follows:

Authority: 42 U.S.C. 7401, et seq.

Subpart C—General Federal Implementation Plan Provisions

2. Section 49.103 is amended by adding a note to the end of the section to read as follows:

§ 49.103 Delegation of authority of administration to Indian tribes.

* * * * *

Note to § 49.103:

EPA entered into an Agreement for Delegation of Partial Administrative Authority with the Southern Ute Indian Tribe on June 11, 2024 to assist the EPA in administering (1) the Federal Minor New Source Review Program in Indian country, 40 CFR part 49, subpart C, §§ 49.151 through 49.164, and (2) the Federal Implementation Plan for Managing Air Emissions from True Minor Sources in Indian Country in the Oil and Natural Gas Production and Oil and Natural Gas Processing Segments of the Oil and Natural Gas Sector, 40 CFR part 49, subpart C, §§ 49.101 through 49.105.

3. Section 49.161 is amended by adding a note to the end of the section to read as follows:

§ 49.161 Administration and delegation of the minor NSR program in Indian country.

* * * * *

Note to § 49.161:

EPA entered into an Agreement for Delegation of Partial Administrative Authority with the Southern Ute Indian Tribe on June 11, 2024 to assist the EPA in administering (1) the Federal Minor New Source Review Program in Indian country, 40 CFR part 49, subpart C, §§ 49.151 through 49.164, and (2) the Federal Implementation Plan for Managing Air Emissions from True Minor Sources in Indian Country in the Oil and Natural Gas Production and Oil and Natural Gas Processing Segments of the Oil and Natural Gas Sector, 40 CFR part 49, subpart C, §§ 49.101 through 49.105.

[FR Doc. 2024-17625 Filed 8-8-24; 8:45 am]

BILLING CODE 6560-50-P